DEPARTMENT OF COMMERCE

National Oceanic and Atmospheric Administration

Proposed Monterey Peninsula Water Supply Project; Notice of Availability of a Draft Environmental Impact Report/Environmental Impact Statement

AGENCY: Office of National Marine Sanctuaries (ONMS), National Ocean Service (NOS), National Oceanic and Atmospheric Administration (NOAA).

ACTION: Notice of availability of a draft environmental impact report/environmental impact statement; request for public comments; announcement of public meetings.

SUMMARY: A permit application has been submitted by California American Water Company (CalAm) to NOAA's Monterey Bay National Marine Sanctuary (MBNMS) to construct and operate a reverse osmosis (RO) desalination facility project (Project) in Monterey County, California. The permit review process is being conducted concurrently with a public process conducted pursuant to the National Environmental Policy Act (NEPA; 42 U.S.C. 4321 et seq.) and California Environmental Quality Act (CEQA, Cal. Pub. Res. Code § 21000 et seq.). NOAA has prepared, in cooperation with the California Public Utilities Commission (CPUC), a joint draft environmental impact review/environmental impact statement (EIR/EIS) that analyzes the potential effects on the physical and human environment related to the Project proposed within MBNMS boundaries. NOAA is soliciting public comment on the draft EIR/EIS.

DATES: Comments must be received on or before February 27, 2017. Public meetings will be on the following dates:

(1) Wednesday, February 15, 11:00 a.m. to 1:00 p.m., Marina, CA

(2) Wednesday, February 15, 6:00 p.m. to 8:00 p.m., Seaside, CA

(3) Thursday, February 16, 4:00 p.m. to 8:00 p.m., Carmel, CA

ADDRESSES: Comments may be submitted by either of the following methods:

• Electronic Submissions: Submit all electronic public comments via the Federal e-Rulemaking Portal. Go to www.regulations.gov/#!docketDetail;D=NOAA-NOS-2016-0156, click the “Comment Now!” icon, complete the required fields and enter or attach your comments.

• Mail: MBNMS Project Lead for CalAm Desalination Project, 99 Pacific Ave, BLDG 455a, Monterey, CA 93940.

Instructions: Comments sent by any other method, to any other address or individual, or received after the end of the comment period, may not be considered by NOAA. All comments received are a part of the public record and will generally be posted for public viewing on www.regulations.gov without change. All personal identifying information (e.g., name, address, etc.), confidential business information, or otherwise sensitive information submitted voluntarily by the sender will be publicly accessible. ONMS will accept anonymous comments (enter “N/A” in the required fields if you wish to remain anonymous).

Copies of the DEIR/EIS can be downloaded or viewed on the internet at www.regulations.gov (search for docket # NOAA-NOS-2016-0156), or at www.regulations.gov/#!docketDetail;D=NOAA-NOS-2016-0156. Copies can also be obtained by contacting the person identified under FOR FURTHER INFORMATION CONTACT.

The public meeting locations are:

(1) Marina, CA: Marina Public Library, Community Meeting Room, 188 Seaside Ave., Marina, CA 93933 (February 15, 2017)

(2) Seaside, CA: Oldemeyer Center, Seaside Room, 986 Hilby Ave., Seaside, CA 93955 (February 15, 2017)

(3) Carmel, CA: Sunset Center, Carpenter Hall, San Carlos Street, Carmel, CA 93921 (February 16, 2017)

FOR FURTHER INFORMATION CONTACT: Karen Grimmer at 99 Pacific Ave, BLDG 455a, Monterey, CA 93940 or mbnms.comments@noaa.gov.

SUPPLEMENTARY INFORMATION:

Background Information

I. Background

A permit application has been submitted by CalAm for construction and operation of its proposed Monterey Peninsula Water Supply Project (MPWSP or Project). The purpose of the MPWSP is to supplement existing water supplies for CalAm's Monterey District service area.

The MPWSP comprises various facilities and improvements, including: A sub-surface seawater intake system; a 9.6-million-gallons-per-day (mgd) reverse osmosis (RO) desalination plant; desalinated water storage and conveyance facilities; and expanded Aquifer Storage and Recovery (ASR) facilities.

The desalination facility would be capable of producing 9.6 million gallons per day (MGD) of potable water on a 46-acre site located north of the City of Marina on unincorporated Monterey County property. The MPWSP proposes ten subsurface slant wells (nine new wells and conversion of an existing test well) to draw seawater from beneath the ocean floor in Monterey Bay to produce the source water for the desalination plant. The subsurface slant wells would be located primarily within the City of Marina, in the active mining area of the CEMEX sand mining facility. The slant wells would be approximately 700 to 1000 feet in length and extend beneath the coastal dunes, sandy beach, and the surf zone, terminating approximately 161 to 356 feet seaward of the Mean High Water line and at a depth of 190 to 210 feet below the seafloor. Up to 24.1 mgd of source water would be needed to produce 9.6 mgd of desalinated product water.

Under the proposed project, the desalination plant would generate approximately 13.98 mgd of brine, including 0.4 mgd of decanted backwash water. The brine would be discharged into Monterey Bay via a 36-inch diameter pipeline to a new connection with the existing Monterey Regional Water Pollution Control Agency's (MRWPCA) outfall and diffuser located offshore.

II. NOAA Proposed Action

NOAA is releasing for public comment a draft EIR/EIS that was prepared in accordance with: Section 102(2)(C) of the National Environmental Policy Act (NEPA) of 1969, as amended; and the White House Council on Environmental Quality Regulations for Implementing the Procedural Provisions of NEPA (CEQ NEPA Regulations). NOAA's proposed action would be whether to approve the installation of a subsurface seawater intake system, the discharge of brine into MBNMS via an existing outfall pipe, and the continued presence of pipelines in MBNMS to transport seawater to a desalination facility.

The Project was subject to a Draft Environmental Impact Report (EIR), under the provisions of the California Environmental Quality Act (CEQA), published by the California Public Utilities Commission (CPUC) in April 2015. The NEPA environmental documentation includes an Environmental Impact Statement (EIS), which is issued as a joint draft CEQA/NEPA (EIR/EIS) document with the CPUC.

The EIR/EIS identifies and assesses potential environmental impacts associated with the proposed Project, and identifies 6 alternatives, plus a no action alternative. Federal agencies would use the EIR/EIS to consider related permits or other approvals for the Project as proposed. NOAA's preferred alternative (Alternative 5a) is the environmentally preferred alternative. Alternative 5a would be implemented in conjunction with the Pure Water Monterey Groundwater Replenishment Project (GWR), which would offer the same amount of freshwater as the proposed project but result in a larger footprint than the proposed action alone, yet the pairing of Alternative 5a and the GWR project would result in reduced operational energy use and reduced GHG emissions compared to the proposed project. In addition, the combination of Alternative 5a and the GWR Project result in reduced effects on groundwater levels influenced by fewer slant wells and less volume of pumping, and the GWR project would provide water to the Castroville Seawater Intrusion Project that would benefit the groundwater basin. Lastly, Alternative 5a paired with the GWR project would be consistent with the 2016 California Action Plan seeking integrated water supply solutions, the Governor's drought proclamations, the CPUC Water Action Plan goal of promoting water infrastructure investment, the California Ocean Plan, and MBNMS Desalination Guidelines.

III. Process

This NOA is published by NOAA, the lead federal agency. NOAA, along with the CPUC, as CEQA lead agency, have determined that a joint CEQA/NEPA document is appropriate, and the two agencies have prepared a joint draft EIR/EIS after completion of a federal scoping process. In accordance with Section 102(2)(C) of NEPA, NOAA published a Notice of Intent (NOI) to prepare an EIS for the proposed project on August 26, 2015 (80 FR 51787). During the EIS scoping meeting held on September 10, 2015, five participants commented publically on the proposed project. Twelve written comments were received throughout the public comment period. The complete written comments are available for review at: https://www.regulations.gov/docket?D=NOAA-NOS-2015-0105.

IV. Federal Consultations

This notice also advises the public that NOAA is coordinating its consultation responsibilities under section 7 of the Endangered Species Act, Essential Fish Habitat under the Magnuson Stevens Fishery Conservation and Management Act, section 106 of the National Historic Preservation Act, and Federal Consistency review under the Coastal Zone Management Act, along with its ongoing NEPA process including the use of NEPA documents and public and stakeholder meetings to also meet the requirements of other federal laws.

NOAA is seeking public comment on the DEIR/DEIS, which is available at http://montereybay.noaa.gov or may be obtained by contacting the individual listed under the heading FOR FURTHER INFORMATION CONTACT.

Authority: 16 U.S.C. 1431 et seq.

Dated: January 4, 2017.
John Armor,
Director for the Office of National Marine Sanctuaries.

[FR Doc. 2017-00505 Filed 1-12-17; 8:45 am]

BILLING CODE 3510-NK-P